DEPARTMENT OF THE INTERIOR

Bureau of Land Management

[LLAZC02000L16100000.DR0000.241A]

Notice of Availability of Record of Decision for the Yuma Field Office Resource Management Plan/Environmental Impact Statement

AGENCY: Bureau of Land Management, Interior.

ACTION: Notice of availability.

SUMMARY: The Bureau of Land Management (BLM) announces the availability of the Record of Decision (ROD)/Approved Resource Management Plan (RMP) for the Yuma Field Office (YFO) located in Arizona and California. The Arizona State Director signed the ROD on July 28, 2009, which constitutes the final decision of the BLM and makes the approved RMP effective immediately.

ADDRESSES: Copies of the ROD/Approved RMP are available upon request from the Bureau of Land Management, Yuma Field Office, 2555 Gila Ridge Road, Yuma, Arizona 85365, or via the Internet at http://www.blm.gov/az/st/en/prog/planning/yuma_plan.html.

FOR FURTHER INFORMATION CONTACT: James T. Shoaff, Field Manager, Bureau of Land Management, Yuma Field Office, 2555 Gila Ridge Road, Yuma, Arizona 85365.

SUPPLEMENTARY INFORMATION: One of BLM's objectives during the planning process was to understand the views of various public interest groups by providing opportunities for meaningful participation. Through communication media such as meetings, newsletters, and news releases, the public was provided opportunities to identify issues that needed to be addressed. The public also provided comments during the 90-day public comment period on the Draft Environmental Impact Statement (EIS), which were addressed in the Final EIS. The Approved RMP/Final EIS was developed with the following cooperating agencies: the Bureau of Reclamation; the Arizona Game and Fish Department; the Arizona Department of Transportation; the Federal Highway Administration; the Imperial, Cibola, and Kofa National Wildlife Refuges; the Fort Yuma Quechan Tribe; the Marine Corps Air Station, Yuma; Natural Resource Conservation Service; the Yuma County Department of Public Works; the city of Yuma; the U.S. Army Yuma Proving Ground; the U.S. Department of Agriculture, the Natural Resources Conservation Service; the U.S. Department of Homeland Security, Customs and Border Patrol; the Cocopah Indian Tribe; the town of Quartzsite; the Wellton-Mohawk Irrigation District; and the Yavapai-Apache Nation. The BLM also initiated consultation with tribes that have oral traditions or cultural concerns relating to the planning area or that are documented as having occupied or used portions of the planning area during prehistoric or historic times.

The Approved RMP includes strategies for protecting and preserving the biological, cultural, recreational, geological, educational, scientific, and scenic values that balance multiple uses of the BLM-administered lands throughout the YFO planning area. The planning area encompasses more than 1.2 million acres of BLM-administered lands.

The ROD and Approved RMP include one new Area of Critical Environmental Concern (ACEC): Dripping Springs Natural and Cultural ACEC (11,733 acres). One existing ACEC is expanded under the new plan: Gila River Cultural ACEC (from 3,668 to 28,504 acres). The Gila River Cultural ACEC is renamed the Sears Point Cultural ACEC. The following types of resource use limitations generally apply to these ACECs:

(1) Allowable uses are limited to those which are compatible with the natural or cultural resources for which the area is designated; (2) Recreation facilities are limited to projects that protect ACEC values; and (3) Travel is permitted only on designated open and signed routes. Detailed information is provided in the Special Designations Management section of the Approved RMP.

The Preferred Alternative in the Draft Resource Management Plan/Draft EIS (published December 15, 2006) was revised to include comments received during the 90-day public comment period. The resulting alternative became the Proposed Plan in the Proposed Resource Management Plan/Final EIS (PRMP/FEIS), published on April 11, 2008. Seven protests were received during the Final EIS 30-day protest period. The Proposed Plan was clarified based on these protests. The Proposed Plan is now called the “Approved RMP” and is attached to the ROD. As a result of protests, only minor editorial modifications were made in preparing the Approved RMP. These modifications provided further clarification of some of the decisions. Minor clarifications and changes between the Proposed Plan/Final EIS and the ROD/Approved Plan include the recalculation of Geographic Information System acreage to ensure consistency between lands available for grazing and those unavailable for grazing in the YFO, and minor text changes to clarify certain decisions. The BLM has determined that the Approved RMP provides an optimal balance between authorized resource use and the protection and long-term sustainability of sensitive resources within the planning area.

Neither the Arizona Governor's Office nor the California Governor's Office identified any inconsistencies between the Proposed RMP/Final EIS and state or local plans, policies, and programs following the 60-day Governors' Consistency Reviews (initiated March 6, 2008), in accordance with planning regulations at 43 CFR part 1610.3-2(e).

The Approved RMP does not contain implementation decisions. Future activity-level plans will address the implementation of the approved RMP. These implementation plans will provide the required additional site-specific planning and National Environmental Policy Act (NEPA) analyses. At that time, such decisions will become appealable. The appeal process will be outlined in the future individual implementation (activity or project-level) plans.

Authority: H-1790-1 National Environmental Policy Act Handbook, January 30, 2008.

James G. Kenna,
Arizona State Director.

[FR Doc. 2010-1726 Filed 1-28-10; 8:45 am]

BILLING CODE 4310-32-P